DEPARTMENT OF DEFENSE

Department of the Air Force

Notice of Intent (NOI) To Prepare Environmental Impact Statement (EIS) on the Proposed Military Family Housing Demolition, Construction, Renovation, and Leasing Program, Eglin Air Force Base (AFB) and Hurlburt Field, FL

AGENCY: Air Force Material Command, United States Air Force.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of its intent to prepare an EIS to assess the potential environmental impacts on a proposal to provide a means to rapidly upgrade housing to current Air Force standards while ensuring that appropriate housing is available and affordable for military personnel assigned to Eglin AFB and Hurlburt Field.

A total of 2,739 existing housing units distributed among thirteen parcels on Eglin AFB and Hurlburt Field would be conveyed to a private contractor along with associated infrastructure and utilities. Selected real estate (land) on which housing units are located would remain in Air Force ownership but would be leased to the private developer for 50 years. The developer will manage and maintain the housing, making it available to military personnel at rates that will not exceed their housing allowance. Of the 2,739 total units proposed for conveyance, there are 138 existing units that meet standards and do not require improvement, two units that would be renovated in place, and 2,594 units that would be demolished.

The Air Force is proposing that a developer construct 2,015 new units, for a net total of 2,155 privatized military family housing units. At least some of the new units would be located on sites not currently developed for housing. All demolition and construction activities would occur on Air Force property within the Eglin Reservation. The Air Force used a screening process to identify suitable areas for new housing development and identified four such parcels, all located in the south-central portion of Eglin Reservation.

The Air Force has developed five alternatives for accomplishing the proposed action. These alternatives differ only in the location and distribution of the 2,015 new units to be constructed. Under the No Action Alternative the Air Force would continue owning and managing all current 2,739 housing units. The standard military construction process would continue to be used to upgrade housing as needed.

The Air Force will host public scoping meetings in the local area. The exact dates, times, and location(s) will be announced through the local media. Oral and written comments presented at the public meetings, as well as written comments received by the Air Force during this scoping period and throughout the environmental impact analysis process, will be considered in the preparation of the EIS. To ensure the Air Force has sufficient time to consider public input in the preparation of the Draft EIS, written comments from the public should be submitted to the address below by March 23, 2004:

Point of Contact: Please direct any written comments or requests for information to Ms. Julia Cantrell, HQ AFCEE/ISM, 3300 Sydney Brooks Road, Brooks City-Base, TX 78235-5112 (PH:210.536.3515).

Pamela Fitzgerald,
Air Force Federal Register Liaison Officer.

[FR Doc. 04-1537 Filed 1-23-04; 8:45 am]

BILLING CODE 5001-05-P